DEPARTMENT OF HEALTH AND HUMAN SERVICES

National Institutes of Health

Center for Scientific Review; Amended Notice of Meeting

Notice is hereby given of a change in the meeting of the Center for Scientific Review Special Emphasis Panel, March 31, 2004, 1 p.m. to March 31, 2004, 6 p.m., Holiday Inn Select Betheda, 8120 Wisconsin Ave, Bethesda, MD 20814 which was published in the Federal Register on March 17, 2004, 69 FR 12705-12707.

The meeting will be held at the Four Points by Sheraton Bethesda, 8400 Wisconsin Avenue, Bethesda, MD 20814.

The date and time remain the same. The meeting is closed to the public.

Dated: March 19, 2004.
LaVerne Y. Stringfield,
Director, Office of Federal Advisory Committee Policy.

[FR Doc. 04-6840 Filed 3-25-04; 8:45 am]

BILLING CODE 4140-01-M